DEPARTMENT OF HEALTH AND HUMAN SERVICES

National Institutes of Health

Center for Scientific Review; Amended Notice of Meeting

Notice is hereby given of a change in the meeting of the Center for Scientific Review Special Emphasis Panel, May 26, 2021, 11:00 a.m. to May 26, 2021, 04:00 p.m., National Institutes of Health, Rockledge II, 6701 Rockledge Drive, Bethesda, MD, 20892 which was published in the Federal Register on April 20, 2021, 86 FR 20505.

This notice is being amended to change the panel name of the Center for Scientific Review Special Emphasis Panel; RFA Panel: Tobacco Regulatory Science A (or B) to RFA Panel: Tobacco Regulatory Science A. The meeting is closed to the public.

Dated: May 5, 2021.
David W. Freeman,
Program Analyst, Office of Federal Advisory Committee Policy.

[FR Doc. 2021-09836 Filed 5-7-21; 8:45 am]

BILLING CODE 4140-01-P